NUCLEAR REGULATORY COMMISSION

[Docket Nos. 50-259, 50-260, and 50-296; NRC-2024-0030]

Tennessee Valley Authority; Browns Ferry Nuclear Plant, Units 1, 2, and 3; Subsequent License Renewal and Record of Decision

AGENCY: Nuclear Regulatory Commission.

ACTION: Notice; issuance.

SUMMARY: The U.S. Nuclear Regulatory Commission (NRC) has issued Subsequent Renewed Facility Operating License Nos. DPR-33, DPR-52, and DPR-68 to Tennessee Valley Authority (TVA), for Browns Ferry Nuclear Plant (BFN), Units 1, 2, and 3, respectively. In addition, the NRC has prepared a record of decision (ROD) that supports the NRC's decision to issue Subsequent Renewed Facility Operating License Nos. DPR-33, DPR-52, and DPR-68.

DATES: The Subsequent Renewed Facility Operating License Nos. DPR-33, DPR-52, and DPR-68 were issued on December 11, 2025.

ADDRESSES: Please refer to Docket ID NRC-2024-0030 when contacting the NRC about the availability of information regarding this document. You may obtain publicly available information related to this document using any of the following methods:

• Federal Rulemaking Website: Go to https://www.regulations.gov and search for Docket ID NRC-2024-0030. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Marieliz Johnson, Office of Nuclear Reactor Regulation, U.S. Nuclear Regulatory Commission, Washington, DC 20555-0001; telephone: 301-415-5861; email: Marieliz.Johnson@nrc.gov.

SUPPLEMENTARY INFORMATION:

I. Discussion

Notice is hereby given that the NRC has issued Subsequent Renewed Facility Operating License Nos. DPR-33, DPR-52, and DPR-68 to TVA for BFN. TVA is the operator of the facility. Subsequent Renewed Facility Operating License Nos. DPR-33, DPR-52, and DPR-68 authorize operation of BFN by TVA at reactor core power levels not to exceed 3,952 megawatts thermal for each unit, in accordance with the provisions of the BFN subsequent renewed licenses and technical specifications. Notice is also given that the ROD that supports the NRC's decision to issue Subsequent Renewed Facility Operating License Nos. DPR-33, DPR-52, and DPR-68 is available, and its location is listed in the “Availability of Documents” section of this document.

As discussed in the ROD and the final supplemental environmental impact statement (SEIS), published as NUREG-1437, Supplement 21, Second Renewal, “Generic Environmental Impact Statement for License Renewal of Nuclear Plants: Regarding Subsequent License Renewal of Browns Ferry Nuclear Plant, Units 1, 2, and 3, Final Report,” dated August 2025, the final SEIS documents the NRC staff's environmental review, including the determination that the adverse environmental impacts of subsequent license renewal (SLR) for BFN are not so great that preserving the option of SLR for energy planning decision-makers would be unreasonable. The final SEIS conclusion is based on: (1) TVA's environmental impact statement and environmental report, as supplemented by additional information; (2) the NRC staff's consultation with Federal, State, Tribal, and local government agencies; (3) the NRC staff's independent environmental review, which is documented in the final SEIS; (4) the NRC staff's consideration of mitigation measures; and (5) the NRC staff's consideration of comments received from other agencies, organizations, and the public.

BFN is a three-unit boiling water reactor site located in Athens, Alabama. TVA submitted its application for subsequent renewal of the renewed facility operating licenses, “Browns Ferry Nuclear Plant, Units 1, 2, and 3—Application for Subsequent Renewed Operating Licenses,” on January 19, 2024, as supplemented by letters through May 1, 2025 (see “Availability of Documents” section of this document). The NRC staff has determined that TVA's application complies with the standards and requirements of the Atomic Energy Act of 1954, as amended (the Act), and NRC regulations. As required by the Act and NRC regulations in title 10 of the Code of Federal Regulations (10 CFR), the NRC has made the appropriate findings, which are set forth in the subsequent renewed licenses.

A public notice of the NRC's acceptance for docketing of the subsequent renewed license application and an opportunity for a hearing was published in the Federal Register on March 21, 2024 (89 FR 20254). Further, a notice of intent to prepare a site-specific environmental impact statement and conduct environmental scoping was published on April 3, 2024 (89 FR 23056). On August 6, 2024, the NRC updated the Commission's 2013 findings on the environmental effects of subsequent renewal of the operating license of a nuclear power plant via rulemaking. This final rule redefines the number and scope of the environmental issues that must be addressed during the review of each application for license renewal (LR) and specifically considers the environmental effects of SLR. As part of this update, the NRC issued Revision 2 to the LR generic environmental impact statement (GEIS) to account for new information and to address the impacts of initial LR as well as one 20-year period of SLR. The final rule became effective for NRC staff on September 5,2024. Thereafter, on October 22, 2024, the NRC staff noticed its intent to prepare a plant-specific supplement to the LR GEIS for the BFN SLR application (89 FR 84401). In May 2025, the NRC staff issued a draft SEIS for public comment, providing the preliminary results of the staff's environmental evaluation of the BFN subsequent license renewal application (SLRA). A notice of availability of the draft SEIS was published in the Federal Register on May 30, 2025 (90 FR 23074). In July 2025, the NRC staff issued its Safety Evaluation (SE) regarding the BFN SLRA. In August 2025, the NRC staff issued a final SEIS, providing its final evaluation of the environmental impacts of BFN SLR; a notice of issuance was published in the Federal Register on August 29, 2025 (90 FR 42272).

For further details with respect to this action, see: (1) TVA's SLRA for BFN, dated January 19, 2024, as supplemented by letters dated through May 1, 2025; (2) the NRC's SE, dated July 18, 2025; (3) the NRC's final SEIS (NUREG-1437, Supplement 21, Second Renewal) for BFN SLR dated August 2025; and (4) the NRC's ROD, issued in September 2025.

II. Availability of Documents

The documents identified in the following table are available to interested persons through ADAMS, as indicated.

Document description | ADAMS accession No.
Record of Decision—Subsequent License Renewal Application Review—Browns Ferry Nuclear Plant, Units 1, 2, and 3, dated December 11, 2025. | ML25209A180.
Final Safety Evaluation Related to the SLRA of Browns Ferry Nuclear Plant, Units 1, 2, and 3, dated July 18, 2025. | ML25169A140 (Package).
NUREG-1437, Generic Environmental Impact Statement for License Renewal of Nuclear Plants, Supplement 21, Second Renewal, Regarding Subsequent License Renewal of Browns Ferry Nuclear Plant, Units 1, 2, and 3, Draft Report for Comment, date published May 2025. | ML25133A156.
NUREG-1437, Generic Environmental Impact Statement for License Renewal of Nuclear Plants, Supplement 21, Second Renewal, Regarding Subsequent License Renewal of Browns Ferry Nuclear Plant, Units 1, 2, and 3, Final Report, date published August 2025. | ML25230A077.
Browns Ferry Nuclear Plant, Units 1, 2, and 3, Application for Subsequent Renewed Operating License, dated January 19, 2024. | ML24019A009 (Package).
Browns Ferry Nuclear Plant, Units 1, 2, and 3—Application for Subsequent Renewed Operating Licenses, Supplemental Information—Neutron Fluence Analyses Methodology, dated January 22, 2024. | ML24022A292.
Browns Ferry Nuclear Plant, Units 1, 2, and 3—Application for Subsequent Renewed Operating Licenses, Second Safety Supplement, dated November 1, 2024. | ML24306A203.
Browns Ferry Nuclear Plant, Units 1, 2, and 3—Application for Subsequent Renewed Operating Licenses, Third Safety Supplement, dated December 17, 2024. | ML24352A216 (Package).
Browns Ferry Nuclear Plant, Units 1, 2, and 3—Application for Subsequent Renewed Operating Licenses, Fourth Safety Supplement, dated February 12, 2025. | ML25043A035.
Browns Ferry Nuclear Plant, Units 1, 2, and 3—Application for Subsequent Renewed Operating Licenses, Fifth Safety Supplement, dated March 4, 2025. | ML25063A184.
Browns Ferry Nuclear Plant, Units 1, 2, and 3—Application for Subsequent Renewed Operating Licenses, 10 CFR 54.21(b) Update, dated April 16, 2025. | ML25106A149.
Browns Ferry Nuclear Plant, Units 1, 2, and 3—Application for Subsequent Renewed Operating Licenses, Sixth Safety Supplement, dated May 1, 2025. | ML25121A174.
NUREG-1437, Revision 2, Volumes 1, 2, and 3, Generic Environmental Impact Statement for License Renewal of Nuclear Plants, dated August 2024. | ML24087A133 (Package).
Browns Ferry Nuclear Plant, Units 1, 2, and 3—Application for Subsequent Renewed Operating Licenses, Response to Request for Additional Information, Set #1, dated October 9, 2024. | ML24283A091.
Browns Ferry Nuclear Plant, Units 1, 2, and 3—Response to Request for Additional Information, Set #2, dated January 8, 2025. | ML25008A150.
Browns Ferry Nuclear Plant, Units 1, 2, and 3—Application for Subsequent Renewed Operating Licenses, Response to Proprietary Attached—Request for Confirmation of Information, Set #1, dated February 12, 2025. | ML25043A270.
Browns Ferry Nuclear Plant, Units 1, 2, and 3—Application for Subsequent Renewed Operating Licenses, Response to Request for Confirmation of Information, Set #2, dated March 26, 2025. | ML25085A283.
Browns Ferry Nuclear Plant, Units 1, 2, and 3—Response to Request for Additional Information, Set #3, dated March 28, 2025. | ML25087A216.
Browns Ferry Nuclear Plant, Units 1, 2, and 3—Application for Subsequent Renewed Operating Licenses, Response to Request for Confirmation of Information, Set #3, dated April 14, 2025. | ML25104A172.
Browns Ferry Nuclear Plant, Units 1, 2, and 3—Response to Request for Additional Information, Set #4, dated April 24, 2025. | ML25114A206.

Dated: December 11, 2025.
For the Nuclear Regulatory Commission.
Michele Sampson,
Director, Division of New and Renewed Licenses, Office of Nuclear Reactor Regulation.

[FR Doc. 2025-22840 Filed 12-15-25; 8:45 am]

BILLING CODE 7590-01-P